DEPARTMENT OF TRANSPORTATION

Federal Aviation Administration

14 CFR Part 97

[Docket No. 30088; Amdt. No. 1997]

Standard Instrument Approach Procedures; Miscellaneous Amendments

AGENCY: Federal Aviation Administration (FAA), DOT.

ACTION: Final rule.

SUMMARY: This amendment establishes, amends, suspends, or revokes Standard Instrument Approach Procedures (SIAPs) for operations at certain airports. These regulatory actions are needed because of the adoption of new or revised criteria, or because of changes occurring in the National Airspace System, such as the commissioning of new navigational facilities, addition of new obstacles, or changes in air traffic requirements. These changes are designed to provide safe and efficient use of the navigable airspace and to promote safe flight operations under instrument flight rules at the affected airports.

DATES: An effective date for each SIAP is specified in the amendatory provisions.

Incorporation by reference-approved by the Director of the Federal Register on December 31, 1980, and reapproved as of January 1, 1982.

ADDRESSES: Availability of matters incorporated by reference in the amendment is as follows:

For Examination

1. FAA Rules Docket, FAA Headquarters Building, 800 Independence Avenue, SW., Washington, DC 20591;

2. The FAA Regional Office of the region in which the affected airport is located; or

3. The Flight Inspection Area Office which originated the SIAP.

For Purchase

Individual SIAP copies may be obtained from:

1. FAA Public Inquiry Center (APA-200), FAA Headquarters Building, 800 Independence Avenue, SW., Washington, DC 20591; or

2. The FAA Regional Office of the region in which the affected airport is located.

By Subscription

Copies of all SIAPs, mailed once every 2 weeks, are for sale by the Superintendent of Documents, U.S. Government Printing Office, Washington, DC 20402.

FOR FURTHER INFORMATION CONTACT: Donald P. Pate, Flight Procedure Standards Branch (AMCAFS-420), Flight Technologies and Programs Division, Flight Standards Service, Federal Aviation Administration, Mike Monroney Aeronautical Center, 6500 South MacArthur Blvd. Oklahoma City, OK 73169 (Mail Address: P.O. Box 25082 Oklahoma City, OK 73125) telephone: (405) 954-4164.

SUPPLEMENTARY INFORMATION: This amendment to part 97 of the Federal Aviation Regulations (14 CFR part 97) establishes, amends, suspends, or revokes Standard Instrument Approach Procedures (SIAPs). The complete regulatory description of each SIAP is contained in official FAA form documents which are incorporated by reference in this amendment under 5 U.S.C. 552(a), 1 CFR part 51, and § 97.20 of the Federal Aviation Regulations (FAR). The applicable FAA Forms are identified as FAA Forms 8260-3, 8260-4, and 8260-5. Materials incorporated by reference are available for examination or purchase as stated above.

The large number of SIAPs, their complex nature, and the need for a special format make their verbatim publication in the Federal Register expensive and impractical. Further, airmen do not use the regulatory text of the SIAPs, but refer to their graphic description on charts printed by publishers of aeronautical materials. Thus, the advantages of incorporation by reference are realized and publication of the complete description of each SIAP contained in FAA form documents is unnecessary. The provisions of this amendment state the affected CFR (and FAR) sections, with the types and effective dates of the SIAPs. This amendment also identifies the airport, its location, the procedure identification and the amendment number.

The Rule

This amendment to part 97 is effective upon publication of each separate SIAP as contained in the transmittal. Some SIAP amendments may have been previously issued by the FAA in a National Flight Data Center (NFDC) Notice to Airmen (NOTAM) as an emergency action of immediate flight safety relating directly to published aeronautical charts. The circumstances which created the need for some SIAP amendments may require making them effective in less than 30 days. For the remaining SIAPs, an effective date at least 30 days after publication is provided.

Further, the SIAPs contained in this amendment are based on the criteria contained in the U.S. Standard for Terminal Instrument Procedures (TERPS). In developing these SIAPs, the TERPS criteria were applied to the conditions existing or anticipated at the affected airports. Because of the close and immediate relationship between these SIAPs and safety in air commerce, I find that notice and public procedure before adopting these SIAPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Navigation (air).

Issued in Washington, DC on June 23, 2000.
L. Nicholas Lacey,
Director, Flight Standards Service.

Adoption of the Amendment

Accordingly, pursuant to the authority delegated to me, part 97 of the Federal Aviation Regulations (14 CFR part 97) is amended by establishing, amending, suspending, or revoking Standard Instrument Approach Procedures, effective at 0901 UTC on the dates specified, as follows:

PART 97—STANDARD INSTRUMENT APPROACH PROCEDURES

1. The authority citation for part 97 is revised to read as follows:

Authority: 49 U.S.C. 106(g), 40103, 40113, 40120, 44701; and 14 CFR 11.49(b)(2).

2. Part 97 is amended to read as follows:

§§ 97.23, 97.25, 97.27, 97.29, 97.31, 97.33 and 97.35 [Amended]

By amending: § 97.23 VOR, VOR/DME, VOR or TACAN, and VOR/DME or TACAN; § 97.25 LOC, LOC/DME, LDA, LDA/DME, SDF, SDF/DME; § 97.27 NDB, NDB/DME; § 97.29 ILS, ILS/DME, ISMLS, MLS, MLS/DME, MLS/RNAV; § 97.31 RADAR SIAPs; § 97.33 RNAV SIAPs; and § 97.35 COPTER SIAPs, identified as follows:

* * * Effective August 10, 2000

Adak, AK, Adak NAF, NDB/DME RWY 23, Orig

Clearwater, FL, Clearwater Air Park, GPS RWY 16, Orig, CANCELLED

Clearwater, FL, Clearwater Air Park, RNAV RWY 16, Orig,

Marietta, GA, Cobb County-McCollum Field, ILS RWY 27, Amdt 1

Marietta, GA, Cobb County-McCollum Field, GPS RWY 9, Orig, CANCELLED

Marietta, GA, Cobb County-McCollum Field, GPS RWY 27, Orig, CANCELLED

Marietta, GA, Cobb County-McCollum Field, RNAV RWY 9, Orig

Marietta, GA, Cobb County-McCollum Field, RNAV RWY 27, Orig

Milledgeville, GA, Baldwin County, NDB RWY 28, Amdt 1

Pikeville, KY, Pike County-Hatcher Field, GPS RWY 9, Amdt Orig-A, CANCELLED

Pikeville, KY, Pike County-Hatcher Field, RNAV RWY 9, Orig

Pikeville, KY, Pike County-Hatcher Field, GPS RWY 27, Amdt Orig-A, CANCELLED

Pikeville, KY, Pike County-Hatcher Field, RNAV RWY 27, Orig

Escanaba, MI, Delta County, ILS RWY 9, Amdt 1

Gwinn, MI, Sawyer Intl, VOR/DME-A, Orig, CANCELLED

Gwinn, MI, Sawyer Intl, NDB RWY 1, Orig, CANCELLED

Gwinn, MI, Sawyer Intl, NDB RWY 19, Orig, CANCELLED

Gwinn, MI, Sawyer Intl, ILS RWY 1, Orig, CANCELLED

Marquette, MI, Sawyer Intl, RNAV RWY 19, Orig

Hancock, MI, Houghton County Memorial, ILS RWY 31, Amdt 13

Iron Mountain/Kingsford, MI, Ford, LOC/DME BC RWY 19, Amdt 13

Iron Mountain/Kingsford, MI, Ford, ILS RWY 1, Amdt 12

Detroit/Grosse, MI, Grosse Ile Muni, RNAV RWY 22, Orig

Marquette, MI, Sawyer Intl, VOR/DME RWY 1, Orig

Marquette, MI, Sawyer Intl, VOR RWY 1, Orig

Marquette, MI, Sawyer Intl, VOR RWY 19, Orig

Marquette, MI, Sawyer Intl, NDB RWY 1, Orig

Marquette, MI, Sawyer Intl, ILS RWY 1, Orig

Saginaw, MI, Saginaw County H. W. Browne, RNAV RWY 27, Orig

Hibbing, MN, Chisholm-Hibbing, LOC BC RWY 13, Amdt 11A, CANCELLED

Baker, MT, Baker Muni, NDB RWY 13, Orig

Baker, MT, Baker Muni, NDB RWY 31, Orig

Monticello, NY, Sullivan County Intl, RNAV RWY 33, Orig

Fargo, ND, Hector Intl, RNAV RWY 8, Orig

Fargo, ND, Hector Intl, RNAV RWY 26, Orig

Fort Stockton, TX, Fort Stockton-Pecos County, VOR RWY 12, Amdt 8

Fort Stockton, TX, Fort Stockton-Pecos County, VOR/DME RWY 30, Orig

Fort Stockton, TX, Fort Stockton-Pecos County, RNAV RWY 12, Orig

Fort Stockton, TX, Fort Stockton-Pecos County, RNAV RWY 30, Orig

Fort Stockton, TX, Fort Stockton-Pecos County, GPS RWY 12, Orig-A

Fort Stockton, TX, Fort Stockton-Pecos County, GPS RWY 30, Orig-A

Port Lavaca, TX, Calhoun County, VOR/DME-A, Amdt 4

Port Lavaca, TX, Calhoun County, NDB RWY 14, Amdt 4

Port Lavaca, TX, Calhoun County, RNAV RWY 14, Orig

Rockport, TX, Aransas Co, VOR/DME OR TACAN-A, Amdt 9

Rockport, TX, Aransas Co, NDB RWY 14, Orig

Rockport, TX, Aransas Co, NDB 1 RWY 14, Amdt 7, CANCELLED

Rockport, TX, Aransas Co, NDB 2 RWY 14, Amdt 3, CANCELLED

Rockport, TX, Aransas Co, RNAV RWY 14, Orig

[FR Doc. 00-16339 Filed 6-27-00; 8:45 am]

BILLING CODE 4910-13-M